DEPARTMENT OF TRANSPORTATION

Federal Aviation Administration

14 CFR Part 71

[Docket No. FAA-2015-7203; Airspace Docket No. 15-ASO-14]

Establishment of Class D Airspace: Destin, FL; Duke Field, Eglin AFB, FL; Revocation of Class D Airspace; Eglin AF Aux No 3 Duke Field, FL; and Amendment of Class D and E Airspace; Eglin Air Force Base, FL; Eglin Hurlburt Field, FL; and Crestview, FL

AGENCY: Federal Aviation Administration (FAA), DOT.

ACTION: Delay of effective date, disposition of comment.

SUMMARY: This action changes the effective date of a final rule published June 21, 2016, establishing Class D airspace at Destin, FL, providing the controlled airspace required for the Air Traffic Control Tower at Destin Executive Airport, (formerly Destin-Fort Walton Beach Airport). This allows for the disposition of comments received but not acknowledged prior to publishing the final rule. This action addresses a comment received, but not previously acknowledged.

DATES: This correction is effective 0901 UTC, November 10, 2016, and the effective date of the rule amending 14 CFR part 71, published on June 21, 2016 (81 FR 40165), is delayed to 0901 UTC November 10, 2016. The Director of the Federal Register approves this incorporation by reference action under Title 1, Code of Federal Regulations, part 51, subject to the annual revision of FAA Order 7400.9 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

Authority for This Rulemaking

History

The Federal Register published a final rule (81 FR 40165, June 21, 2016) Docket No. FAA-2015-7203, establishing Class D airspace at Destin Executive Airport, Destin, FL; and Duke Field Eglin AFB, FL; removing Class D airspace at Eglin AF Aux No 3 Duke Field; and amending Class D and Class E airspace at Eglin Air Force Base, FL. Further review revealed one comment was received, but not addressed. This action corrects that error.

Class D and E airspace designations are published in paragraphs 5000, 6002, and 6005, respectively, of FAA Order 7400.9Z dated August 6, 2015, and effective September 15, 2015, which is incorporated by reference in 14 CFR part 71.1. The Class E airspace designations listed in this document will be published subsequently in the Order.

Availability and Summary of Documents for Incorporation by Reference

This document amends FAA Order 7400.9Z, Airspace Designations and Reporting Points, dated August 6, 2015, and effective September 15, 2015. FAA Order 7400.9Z is publicly available as listed in the ADDRESSES section of this document. FAA Order 7400.9Z lists Class A, B, C, D, and E airspace areas, air traffic service routes, and reporting points.

Correction to Final Rule

Accordingly, pursuant to the authority delegated to me, in the Federal Register of June 21, 2016 (81 FR 40165) FR Doc. FAA-2015-7203, Establishment of Class D Airspace: Destin, FL; Duke Field, Eglin AFB, FL; Revocation of Class D Airspace; Eglin AF Aux No 3 Duke Field, FL; and Amendment of Class D and E Airspace; Eglin Air Force Base, FL; Eglin Hurlburt Field, FL; and Crestview, FL, is corrected as follows:

On page 40165, column 3, on line 37, Remove the following text: “July 21” and in its place, “November 10”.

On page 40166, column 1, beginning on line 47, remove the following text: “No comments were received” and in its place add, “One comment was received, from the Aircraft Owners and Pilots Association, in support of the rulemaking. The commenter requested the FAA make clear all publications, so as to relay the proper information concerning this airspace to the flying public. ”

Issued in College Park, Georgia, on July 15, 2016.
Ryan W. Almasy,
Manager, Operations Support Group, Eastern Service Center, Air Traffic Organization.

[FR Doc. 2016-17246 Filed 7-20-16; 8:45 am]

BILLING CODE 4910-13-P